DEPARTMENT OF TRANSPORTATION

Office of the Secretary: Notice of Applications for Certificates of Public Convenience and Necessity and Foreign Air Carrier Permits

Notice of Applications for Certificates of Public Convenience and Necessity and Foreign Air Carrier Permits Filed Under Subpart B (formerly Subpart Q) during the Week Ending May 15, 2010. The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2010-0125.

Date Filed: May 11, 2010.

Due Date for Answers, Conforming Applications, or Motion to Modify Scope: June 1, 2010.

Description: Application of Carlsbad-Palomar Airlines, Inc. requesting a certificate of public convenience and necessity to engage in foreign scheduled air transportation of persons, property, cargo and mail.

Docket Number: DOT-OST-2005-22228.

Date Filed: May 12, 2010.

Due Date for Answers, Conforming Applications, or Motion to Modify Scope: June 2, 2010.

Description: Application of Pinnacle Airlines, Inc. requesting an exemption to authorize Pinnacle to engage in scheduled foreign air transportation of persons, property and mail between Detroit, Michigan and Monterrey, Mexico. Pinnacle also requests an amendment to its experimental certificate of public convenience and necessity for Route 897 under streamlining regulatory procedures.

Docket Number: DOT-OST-2010-0131.

Date Filed: May 14, 2010.

Due Date for Answers, Conforming Applications, or Motion to Modify Scope: June 4, 2010.

Description: Application of Aegean Airlines Societe Anonyme d/b/a Aegean Airlines S.A. requesting a foreign air carrier permit and corresponding exemption authority to the full extent authorized by the Air Transport Agreement by the United States and the European Community and its Member States to enable it to engage in: (i) Foreign scheduled and charter air transportation of persons, property and mail from any point or points behind and Member State of the of the European Union via any point or points in any Member State and via intermediate points to any point or points in the United States and beyond; (ii) foreign scheduled and charter air transportation of persons, property and mail between any point or points in the United states and any point or points in any member of the European Common Aviation Area (“ECAA”); (iii) other charters pursuant to the prior approval requirements; and (iv) transportation authorized by and additional route rights made available to European Community carriers in the future.

Barbara J. Hairston,
Supervisory Dockets Officer, Docket Operations Altenate Federal Register Liaison.

[FR Doc. 2010-12656 Filed 5-25-10; 8:45 am]

BILLING CODE 4910-9X-P